GENERAL SERVICES ADMINISTRATION

[OMB Control No. 3090-XXXX; Docket No. 2018-0001; Sequence No. 19]

Information Collection; Mobile Now Act

AGENCY: Office of Government-wide Policy (OGP), General Services Administration (GSA).

ACTION: Emergency Clearance Notice.

SUMMARY: As required by the Paperwork Reduction Act of 1995, as amended by the Clinger-Cohen Act, the Regulatory Secretariat Division will be submitting to the Office of Management and Budget (OMB) a request to review and approve a new information collection requirement regarding the MOBILE NOW Act.

DATES: Submit comments on or before October 29, 2018.

ADDRESSES: Submit comments identified by Information Collection 3090-XXXX; Mobile Now Act, by any of the following methods:

• Regulations.gov: http://www.regulations.gov. Submit comments via the Federal eRulemaking portal by searching for the OMB Control number 3090-XXXX. Select the link “Comment Now” that corresponds with “Information Collection 3090-XXXX; Mobile Now Act”. Follow the instructions on the screen. Please include your name, company name (if any), and “Information Collection 3090-XXXX; Mobile Now Act” on your attached document.

• Mail: General Services Administration, Regulatory Secretariat Division (MVCB), 1800 F Street NW, Washington, DC 20405-0001. ATTN: Ms. Mandell/IC 3090-XXXX; Mobile Now Act.

Instructions: Please submit comments only and cite Information Collection 3090-XXXX; Mobile Now Act, in all correspondence related to this collection. Comments received generally will be posted without change to http://www.regulations.gov, including any personal and/or business confidential information provided. To confirm receipt of your comment(s), please check www.regulations.gov, approximately two-to-three days after submission to verify posting (except allow 30 days for posting of comments submitted by mail).

FOR FURTHER INFORMATION CONTACT: Jennie Campbell, Project Manager, Office of Government-wide Policy, at telephone number 202-694-8131, or via email to jennie.campbell@gsa.gov.

SUPPLEMENTARY INFORMATION:

A. Purpose

On March 23, 2018, the President signed HR 1625, “Consolidated Appropriations Act, 2018,” which provided appropriations through fiscal year 2018. GSA is required by the MOBILE NOW Act (Section 608(d) of Title VI of Division P of the Consolidated Appropriations Act, 2018 [P. L. 115-141]) to study: (a) How to incentivize State and local governments to provide GSA with real property data for inclusion in the Federal Real Property Profile (FRPP) database, and (b) the feasibility of establishing or operating a database to which State and local governments can voluntarily submit this data. Section 608(d) also directs GSA to consult with State and local governments, or their representatives, to identify the most cost effective options for State and local governments to collect and provide real property data on assets that could support a communications facility installation and make recommendations on ways the Federal Government can assist State and local governments in collecting and providing this data. Further, section 608(d) directs GSA to submit a report to Congress on this study by March 22, 2019. This information is not already widely available and requires the solicitation of feedback from the relevant stakeholders. GSA determined that developing a survey was the most efficient and effective means for studying the items identified in Section 608(d) within this timeframe. This is a one-time data collection and will not require repeated collection.

Although the agency may not respond to each individual comment, GSA may follow-up with respondents to clarify comments. GSA values public feedback and will consider all input that it receives.

B. Annual Reporting Burden

Respondents: 1,200.

Responses per Respondent: 1.

Total Annual Responses: 1,200.

Hours per Response: .166667.

Total Burden Hours: 200.

Obtaining Copies of Proposals: Requesters may obtain a copy of the information collection documents from the General Services Administration, Regulatory Secretariat Division (MVCB), 1800 F Street NW, Washington, DC 20405. ATTN: Information Collection 3090-XXXX; Mobile Now Act.

Please cite OMB Control No. 3090-XXXX, Mobile Now Act, in all correspondence.

Dated: October 10, 2018.
David A. Shive,
Chief Information Officer.

[FR Doc. 2018-22650 Filed 10-16-18; 8:45 am]

BILLING CODE 6820-14-P